DEPARTMENT OF THE INTERIOR

Minerals Management Service

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1, 2006 through October 31, 2006. The List of Restricted Joint Bidders published in the Federal Register November 7, 2005 covered the period November 1, 2005 through April 30, 2006.

Group I | Exxon Mobil Corporation
| ExxonMobil Exploration Company
Group II | Shell Oil Company
| Shell Offshore Inc.
| SWEPI LP
| Shell Frontier Oil & Gas Inc.
| Shell Consolidated Energy Resources Inc.
| Shell Land & Energy Company
| Shell Onshore Ventures Inc.
| Shell Offshore Properties and Capital II, Inc.
| Shell Rocky Mountain Production LLC
| Shell Gulf of Mexico Inc.
Group III | BP America Production Company
| BP Exploration & Production Inc.
| BP Exploration (Alaska) Inc.
Group IV | TOTAL E&P USA, Inc.
Group V | Chevron Corporation
| Chevron U.S.A. Inc.
| Unocal Corporation
| Union Oil Company of California
| Pure Resources, LP
| Pure Partners, LP
| PRS Offshore, LP
Group VI | ConocoPhillips Company
| ConocoPhillips Alaska, Inc
| ConocoPhillips Petroleum Company
| Phillips Pt. Arguello Production Company
Group VII | Eni Petroleum Co. Inc.
| Eni Petroleum Exploration Co. Inc.
| Eni Deepwater LLC
| Eni Oil U.S. LLC
| Eni Marketing Inc
| Eni BB Petroleum Inc
| Eni U.S. Operating Co. Inc.
| Eni BB Pipeline LLC
Group VIII | Petrobras America Inc.

Dated: April 12, 2006.
R.M. “Johnnie” Burton,
Director, Minerals Management Service.

[FR Doc. E6-6431 Filed 4-27-06; 8:45 am]

BILLING CODE 4310-MR-P